DEPARTMENT OF LABOR

Office of the Secretary

Senior Executive Service; Appointment of a Member to the Performance Review Board

Title 5 U.S.C. 4314(c)(4) provides that Notice of the appointment of an individual to serve as a member of the Performance Review Board of the Senior Executive Service shall be published in the Federal Register.

The following individuals are hereby appointed to a three-year term on the Department's Performance Review Board: Leah Daughtry, Joseph Juarez, Carl Lowe, David Zeigler.

FOR FURTHER INFORMATION CONTACT: Ms. Tali R. Stepp, Director of Human Resources, Room C5526, U.S. Department of Labor, Frances Perkins Building, 200 Constitution Avenue, NW, Washington, DC 20210, telephone: (202) 219-9191.

Signed at Washington, D.C., this 9th day of November, 2000.
Alexis M. Herman,
Secretary of Labor.

[FR Doc. 00-29371 Filed 11-15-00; 8:45 am]

BILLING CODE 4510-23-M